DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Permitting and Vessel Identification Requirements for the Commercial Bottomfish Fishery in the Commonwealth of the Northern Mariana Islands.

OMB Control Number: 0648-0584.

Form Number(s): NA.

Type of Request: Regular submission (revision and extension of a current information collection).

Number of Respondents: 125.

Average Hours per Response: Permit applications, 30 minutes; appeals, 2 hours; vessel marking, 45 minutes.

Burden Hours: 70.

Needs and Uses: This request is for a revision and extension of a currently approved information collection. The National Marine Fisheries Service (NMFS) requires that owners of commercial fishing vessels in the bottomfish fishery in the Commonwealth of the Northern Mariana Islands (CNMI) obtain a federal bottomfish permit. If their vessels are over 40 ft. (12.2 m) long, they must also mark their vessels in compliance with federal identification requirements and carry and maintain a satellite-based vessel monitoring system (VMS). This collection of information is needed for permit issuance, to identify actual or potential participants in the fishery, and aid in enforcement of regulations and area closures.

Revisions: The vessel monitoring system requirements are now covered under OMB Control No. 0648-0441 and the NMFS is now requiring a permit fee of $28.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: March 22, 2012.
Gwellnar Banks,
Management Analyst, Office of the Chief Information Officer.

[FR Doc. 2012-7380 Filed 3-27-12; 8:45 am]

BILLING CODE 3510-22-P